DEPARTMENT OF DEFENSE

Office of the Secretary

[Transmittal No. 23-44]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-44, and Policy Justification.

Dated: October 7, 2024.
Patricia L. Toppings,
OSD Federal Register Liaison Officer, Department of Defense.

BILLING CODE 6001-FR-P

BILLING CODE 6001-FR-C

Transmittal No. 23-44

Notice of Proposed Issuance of Letter of Offer Pursuant to Section 36(b)(1) of the Arms Export Control Act, as amended

(i) Prospective Purchaser: Taipei Economic and Cultural Representative Office in the United States (TECRO)

(ii) Total Estimated Value:

Major Defense Equipment * | $ 0 million
Other | $332.2 million
TOTAL | $332.2 million

(iii) Description and Quantity or Quantities of Articles or Services under Consideration for Purchase:

Major Defense Equipment (MDE):

None

Non-MDE:

Included are: various unclassified 30 mm ammunition, including 30 mm High Explosive Incendiary-Tracer rounds, 30 mm multi-purpose rounds, and 30 mm training rounds; engineering technical services, including configuration control, production support, ammunition testing, and Load, Assemble, and Pack services; other technical services, including sourcing and acquisition assistance, Navy civilian personnel cost, contract support services, support on technical data requests, responses to Requests for Information, up to two (2) Program Management Reviews per year, and testing and documentation associated with contract procurements; and other related elements of logistic and program support.

(iv) Military Department: Navy (TW-P-AMA)

(v) Prior Related Cases, if any: None

(vi) Sales Commission, Fee, etc., Paid, Offered, or Agreed to be Paid: None

(vii) Sensitivity of Technology Contained in the Defense Article or Defense Services Proposed to be Sold: None

(viii) Date Report Delivered to Congress: June 29, 2023

* As defined in Section 47(6) of the Arms Export Control Act.

POLICY JUSTIFICATION

Taipei Economic and Cultural Representative Office in the United States (TECRO)—30 mm Ammunition

The Taipei Economic and Cultural Representative Office in the United States (U.S.) (TECRO) has requested to buy various unclassified 30 mm ammunition, including 30 mm High Explosive Incendiary-Tracer rounds, 30 mm multi-purpose rounds, and 30 mm training rounds; engineering technical services, including configuration control, production support, ammunition testing, and Load, Assemble, and Pack services; other technical services, including sourcing and acquisition assistance, Navy civilian personnel cost, contract support services, support on technical data requests, responses to Requests for Information, up to two (2) Program Management Reviews per year, and testing and documentation associated with contract procurements; and other related elements of logistic and program support. The estimated total cost is $332.2 million.

This proposed sale is consistent with U.S. law and policy as expressed in Public Law 96-8.

This proposed sale serves U.S. national, economic, and security interests by supporting the recipient's continuing efforts to modernize its armed forces and to maintain a credible defensive capability. The proposed sale will help improve the security of the recipient and assist in maintaining political stability, military balance, and economic progress in the region.

The proposed sale will contribute to the sustainment of the recipient's CM34 Armored Vehicles, enhancing its ability to meet current and future threats. This ammunition will contribute to the recipient's goal of maintaining its military capability while further enhancing interoperability with the U.S. The recipient will have no difficulty absorbing this ammunition into its armed forces.

The proposed sale of this equipment and support will not alter the basic military balance in the region.

The principal contractor for the AB44 ammunition will be Alliant Techsystems Operations LLC, Plymouth, MN. The principal contractor for the AB51 and AA90 ammunition will be General Dynamics Ordnance and Tactical Systems—Simuni, Marion, IL. There are no known offset agreements proposed in connection with this potential sale.

Implementation of this proposed sale will not require the permanent assignment of any additional U.S. Government or contractor representatives to the recipient. Program Office and support representatives will travel to the recipient on a temporary basis.

There will be no adverse impact on U.S. defense readiness as a result of this proposed sale.

[FR Doc. 2024-23553 Filed 10-10-24; 8:45 am]

BILLING CODE 6001-FR-P